FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 012426-003.

Agreement Name: The OCEAN Alliance Agreement.

Parties: American President Lines, Ltd., APL Co. Pte. Ltd., and CMA CGM S.A. (acting as a single party); COSCO Shipping Lines Co., Ltd. and COSCO Shipping Lines (Europe) GmbH (acting as a single party); Evergreen Line Joint Service Agreement, and OOCL (Europe) Limited and Orient Overseas Container Line Limited (acting as a single party).

Filing Party: Robert Magovern; Cozen O'Connor.

Synopsis: The Amendment revises Article 7 of the Agreement to extend the minimum term of the agreement through March 31, 2027.

Proposed Effective Date: 3/30/2019.

Location: https://www2.fmc.gov/FMC.Agreements.Web/Public/AgreementHistory/1214.

Agreement No.: 201290.

Agreement Name: Maersk/MSC/Zim USPNW Cooperative Working Agreement.

Parties: Maersk Line A/S; Mediterranean Shipping Company S.A.; and ZIM Integrated Shipping Services Ltd.

Filing Party: Wayne Rohde; Cozen O'Connor.

Synopsis: The Agreement authorizes the parties to operate a vessel string in the trade between ports in China, Japan, Taiwan, and South Korea on the one hand and ports in the State of Washington on the other hand. It also authorizes ZIM to exchange space on that string for space on another string operated by Maersk and MSC.

Proposed Effective Date: 2/14/2019.

Location: https://www2.fmc.gov/FMC.Agreements.Web/Public/AgreementHistory/21334.

Dated: February 15, 2019.
Rachel Dickon,
Secretary.

[FR Doc. 2019-02975 Filed 2-20-19; 8:45 am]

BILLING CODE 6731-AA-P